DEPARTMENT OF AGRICULTURE

Animal and Plant Health Inspection Service

[Docket No. 02-028-1]

National Wildlife Services Advisory Committee; Meeting

AGENCY: Animal and Plant Health Inspection Service, USDA.

ACTION: Notice of meeting.

SUMMARY: We are giving notice of a meeting of the National Wildlife Services Advisory Committee.

DATES: The meeting will be held on June 4 and 5, 2002, from 8 a.m. to 5 p.m. each day.

ADDRESSES: The meeting will be held at the USDA Center at Riverside, 4700 River Road, Riverdale, MD.

FOR FURTHER INFORMATION CONTACT: Mr. Monte Chandler, Acting Director, Operational Support Staff, WS, APHIS, 4700 River Road Unit 87, Riverdale, MD 20737-1234; (301) 734-7921.

SUPPLEMENTARY INFORMATION: The National Wildlife Services Advisory Committee (Committee) advises the Secretary of Agriculture concerning policies, program issues, and research needed to conduct the Wildlife Services (WS) program. The Committee also serves as a public forum enabling those affected by the WS program to have a voice in the program's policies.

The meeting will focus on operational and research activities and will be open to the public. Due to time constraints, the public will not be able to participate in the Committee's discussions. However, written statements concerning meeting topics may be filed with the Committee before or after the meeting by sending them to Mr. Monte Chandler at the address listed under FOR FURTHER INFORMATION CONTACT, or may be filed at the meeting. Please refer to Docket No. 02-028-1 when submitting your statements.

This notice of meeting is given pursuant to 5 U.S.C. app. 10.

Done in Washington, DC, this 13th day of May, 2002.
Peter Fernandez,
Acting Administrator, Animal and Plant Health Inspection Service.

[FR Doc. 02-12372 Filed 5-16-02; 8:45 am]

BILLING CODE 3410-34-P